DEPARTMENT OF COMMERCE

Foreign-Trade Zones Board

[B-60-2022]

Foreign-Trade Zone (FTZ) 74—Baltimore, Maryland, Notification of Proposed Production Activity, United Safety Technology Corp. (Medical and Non-medical Disposable Gloves), Sparrows Point, Maryland

United Safety Technology Corp submitted a notification of proposed production activity to the FTZ Board (the Board) for its facility in Sparrows Point, Maryland, within Subzone 74D. The notification conforming to the requirements of the Board's regulations (15 CFR 400.22) was received on December 8, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include seamless gloves, surgical gloves and examination gloves (duty rate ranges from duty-free to 3%).

The proposed foreign-status materials and components include: Nitrile-butadiene rubber (NBR): Latex; Potassium hydroxide; Calcium Nitrate; Nitric Acid; Zinc Oxide; Chlorine; Sodium Hypochlorite; Hydrochloric Acid; Caustic Soda; Polydimethylsiloxane emulsion; Paraffin Wax; Sulphur Dispersion; Zinc dibuthyl dithiocarbamate (ZDBC) Dispersion; Titanium dioxide (TiO2) Dispersion (60%-70% solid); Sodium dioctyl sulfosuccinate (SDBS); Ferric Chloride; Color Pigments, fluid paste, viscous—copper phthalocyanine blue; Color Pigments, fluid paste, viscous—carbazole violet; Sodium Thiosulphate Pentahydrate; Non-ionic surfactant and wetting agent; Powder coagulant additive—calcium stearate; cardboard boxes for packaging gloves (duty rate ranges from duty-free to 6.5%). The request indicates that carbazole violet pigment 23 is subject to antidumping/countervailing duty (AD/CVD) orders if imported from certain countries. The Board's regulations (15 CFR 400.14(e)) require that merchandise subject to AD/CVD orders, or items which would be otherwise subject to suspension of liquidation under AD/CVD procedures if they entered U.S. customs territory, be admitted to the zone in privileged foreign status (PF) (19 CFR 146.41). The request also indicates that certain materials/components are subject to duties under Section 301 of the Trade Act of 1974 (Section 301), depending on the country of origin. The applicable Section 301 decisions require subject merchandise to be admitted to FTZs in PF status.

Public comment is invited from interested parties. Submissions shall be addressed to the Board's Executive Secretary and sent to: ftz@trade.gov. The closing period for their receipt is January 25, 2023.

A copy of the notification will be available for public inspection in the “Online FTZ Information System” section of the Board's website.

For further information, contact Diane Finver at Diane.Finver@trade.gov.

Dated: December 12, 2022.
Andrew McGilvray,
Executive Secretary.

[FR Doc. 2022-27275 Filed 12-15-22; 8:45 am]

BILLING CODE 3510-DS-P